DEPARTMENT OF ENERGY

Federal Energy Regulatory Commission

[Docket Nos. EL06-1-001, et al.]

Niagara Mohawk Power Corporation, et al.; Electric Rate and Corporate Filings

May 12, 2006.

The following filings have been made with the Commission. The filings are listed in ascending order within each docket classification.

1. Niagara Mohawk Power Corporation, A National Grid Company v. New York State Reliability Council and New York Independent System Operator, Inc.

[Docket No. EL06-1-001]

Take notice that on April 28, 2006, New York State Reliability Council (NYSRC) and New York Independent System Operator, Inc. (NYISO) filed a joint informational report, pursuant to the Commission's order issued February, 2, 2006, regarding actions taken by NYSRC and NYISO concerning the progress they made toward resolving issues raised by the Niagara Mohawk Power Corporation in its complaint filing of September 30, 2005.

Comment Date: 5 p.m. Eastern Time on May 26, 2006.

2. Midland Cogeneration Venture Limited Partnership

[Docket No. ER06-733-001]

Take notice that May 10, 2006, Midland Cogeneration Venture Limited Partnership filed revised tariff sheets, Sub. Original Sheet Nos. 2 through 4 and Original Sheet No. 5, to its market-based tariff, Original Volume No 1, pursuant to the Commission's May 8, 2006 request.

Comment Date: 5 p.m. Eastern Time on May 22, 2006.

3. Arcadia Power Partners, LLC; Cleco Power LLC

[Docket Nos. ER06-964-000; ER06-965-000]

Take notice that on May 5, 2006, Arcadia Power Partners, LLC filed its proposed revised market-based rate tariff, Original Volume No. 1, Original Sheet No. 3, to permit it to make sales of energy indirectly through a non-affiliated marketer to its affiliate, Cleco Power LLC.

Comment Date: 5 p.m. Eastern Time on May 19, 2006.

4. Colstrip Energy Limited Partnership

[Docket No. QF84-377-011]

Take notice that on May 3, 2006, Colstrip Energy Limited Partnership filed an application for recertification as a qualifying small power production facility, pursuant to part 292, subpart B of the Commission's regulations, 18 CFR 292.207(b).

Comment Date: 5 p.m. Eastern Time on June 2, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-7755 Filed 5-19-06; 8:45 am]

BILLING CODE 6717-01-P